DEPARTMENT OF HEALTH AND HUMAN SERVICES

Health Resources and Services Administration

Advisory Committee; Notice of Meetings; Addendum

In Federal Register Document 01-28108, appearing on pages 56689-56690 in the issue for Friday, November 9, 2001, the following meetings for the Health Professions and Nurse Education Special Emphasis Panel have been added:

Name: Allied Health Projects.

Date and Time: April 8-11, 2002.

Place: Holiday Inn Silver Spring, 8777 Georgia Avenue, Silver Spring, MD 20910.

Open on: April 8, 2002, 8:00 a.m. to 10:00 a.m.

Closed on: April 8, 2002, 10:00 a.m. to adjournment (approximately 6:00 p.m.); April 9-11, 2002, 8:00 a.m. to adjournment (approximately 6:00 p.m.).

Name: Quentin N. Burdick Program for Rural Interdisciplinary Training.

Date and Time: April 8-11-2002.

Place: Holiday Inn Silver Spring, 8777 Georgia Avenue, Silver Spring, MD 20910.

Open on: April 8, 2002, 8:00 a.m. to 10:00 a.m.

Closed on: April 8, 2002, 10:00 a.m. to adjournment (approximately 6:00 p.m.); April 9-11, 2002, 8:00 a.m. to adjournment (approximately 6:00 p.m.)

Name: Residency Training in Primary Care.

Date and Time: April 22-25, 2002.

Place: Hilton Silver Spring, 8727 Colesville Road, Silver Spring, MD 20910.

Open on: April 22, 2002, 8:00 a.m. to 10:00 a.m.

Closed on: April 22, 2002, 10:00 a.m. to adjournment (approximately 6:00 p.m.); April 23-25, 2002, 8:00 a.m. to adjournment (approximately 6:00 p.m.).

Name: Physician Assistant Training in Primary Care.

Date and Time: April 22-25, 2002.

Place: Hilton Silver Spring, 8727 Colesville Road, Silver Spring, MD 20910.

Open on: April 22, 2002, 8:00 a.m. to 10:00 a.m.

Closed on: April 22, 2002, 10:00 a.m. to adjournment (approximately 6:00 p.m.); April 23-25, 2002, 8:00 a.m. to adjournment (approximately 6:00 p.m.).

Name: Faculty Development Training in Primary Care.

Date and Time: April 29-May 2, 2002.

Place: Hilton Silver Spring, 8727 Colesville Road, Silver Spring, MD 20910.

Open on: April 29, 2002, 8:00 a.m. to 10:00 a.m.

Closed on: April 29, 2002, 10:00 a.m. to adjournment (approximately 6:00 p.m.); April 30-May 2, 2002, 8:00 a.m. to adjournment (approximately 6:00 p.m.).

Name: Geriatric Education Centers.

Date and Time: April 29-May 2, 2002.

Place: Holiday Inn Silver Spring, 8777 Georgia Avenue, Silver Spring, MD 20910.

Open on: April 29, 8:00 a.m. to 10:00 a.m.

Closed on: April 29, 2002, 10:00 a.m. to adjournment (approximately 6:00 p.m.); April 30-May 2, 2002, 8:00 a.m. to adjournment (approximately 6:00 p.m.).

Name: Residency Training in Primary Care.

Date and Time: May 6-9, 2002.

Place: Hilton Silver Spring, 8727 Colesville Road, Silver Spring, MD 20910.

Open on: May 6, 2002, 8:00 a.m. to 10:00 a.m.

Closed on: May 6, 2002, 10:00 a.m. to adjournment (approximately 6:00 p.m.); May 7-9, 2002, 8:00 a.m. to adjournment (approximately 6:00 p.m.).

Name: Residencies in the Practice of Pediatric Dentistry and Residencies and Advanced Education in the Practice of General Dentistry.

Date and Time: May 6-9, 2002.

Place: Hilton Silver Spring, 8727 Colesville Road, Silver Spring, MD 20910.

Open on: May 6, 2002, 8:00 a.m. to 10:00 a.m.

Closed on: May 6, 2002, 10:00 a.m. to adjournment (approximately 6:00 p.m.); May 7-9, 2002, 8:00 a.m. to adjournment (approximately 6:00 p.m.).

Name: Predoctoral Training in Primary Care.

Date and Time: May 13-16, 2002.

Place: Hilton Silver Spring, 8727 Colesville Road, Silver Spring, MD 20910.

Open on: May 13, 2002, 8:00 a.m. to 10:00 a.m.

Closed on: May 13, 2002, 10:00 a.m. to adjournment (approximately 6:00 p.m.); May 14-16, 2002, 8:00 a.m. to adjournment (approximately 6:00 p.m.).

Name: Geriatric Training for Physicians, Dentists, and Behavioral and Mental Health Professionals.

Date and Time: May 13-16, 2002.

Place: Holiday Inn Silver Spring, 8777 Georgia Avenue, Silver Spring, MD 20910.

Open on: May 13, 2002, 8:00 a.m. to 10:00 a.m.

Closed on: May 13, 2002, 10:00 a.m. to adjournment (approximately 6:00 p.m.); May 14-16, 2002, 8:00 a.m. to adjournment (approximately 6:00 p.m.).

Name: Academic Administrative Units in Primary Care.

Date and Time: May 20-23, 2002.

Place: Hilton Silver Spring, 8727 Colesville Road, Silver Spring, MD 20910.

Open on: May 20, 2002, 8:00 a.m. to 10:00 a.m.

Closed on: May 20, 2002, 10:00 a.m. to adjournment (approximately 6:00 p.m.); May 21-23, 2002, 8:00 a.m. to adjournment (approximately 6:00 p.m.).

Name: Geriatric Academic Career Awards.

Date and Time: June 3-6, 2002.

Place: Hilton Silver Spring, 8727 Colesville Road, Silver Spring, MD 20910.

Open on: June 3, 2002, 8:00 a.m. to 10:00 a.m.

Closed on: June 3, 2002, 10:00 a.m. to adjournment (approximately 6:00 p.m.); June 4-6, 2002, 8:00 a.m. to adjournment (approximately 6:00 p.m.).

Name: Health Education and Training Centers.

Date and Time: June 10-13, 2002.

Place: Holiday Inn Silver Spring, 8777 Georgia Avenue, Silver Spring, MD 20910.

Open on: June 10, 2002, 8:00 a.m. to 10:00 a.m.

Closed on: June 10, 2002, 10:00 a.m. to adjournment (approximately 6:00 p.m.); June 11-13, 2002, 8:00 a.m. to adjournment (approximately 6:00 p.m.).

Name: Graduate Psychology Education Program.

Date and Time: July 29-August 1, 2002.

Place: Holiday Inn Silver Spring, 8777 Georgia Avenue, Silver Spring, MD 20910.

Open on: July 29, 2002, 8:00 a.m. to 10:00 a.m.

Closed on: July 29, 2002, 10:00 a.m. to adjournment (approximately 6:00 p.m.); July 30-August 1, 2002, 8:00 a.m. to adjournment (approximately 6:00 p.m.).

Name: National Research Service Awards.

Date and Time: August 5-6, 2002.

Place: Hilton Silver Spring, 8727 Colesville Road, Silver Spring, MD 20910.

Open on: August 5, 2002, 8:00 a.m. to 10:00 a.m.

Closed on: August 5, 2002, 10:00 a.m. to adjournment (approximately 6:00 p.m.); August 6, 2002, 8:00 a.m. to adjournment (approximately 6:00 p.m.).

Dated: March 1, 2002.
Jane M. Harrison,
Director, Division of Policy Review and Coordination.

[FR Doc. 02-5357 Filed 3-6-02; 8:45 am]

BILLING CODE 4165-15-P